DEPARTMENT OF LABOR

Employment and Training Administration

[TA-W-41,327]

MeadWestvaco, Including Leased Workers of Bancroft Contracting, Denali Fire Protection, WF Porter, Mechanical Services, Cinbro Contracting, ES Boulos, CP Technologies and Arbon Equipment, Rumford, MA; Amended Certification Regarding Eligibility To Apply for Worker Adjustment Assistance

In accordance with section 223 of the Trade Act of 1974 (19 U.S.C. 2273) the Department of Labor issued a Certification of Eligibility to Apply for Worker Adjustment Assistance on June 21, 2002, applicable to all workers of MeadWestvaco, located in Rumford, Maine. The notice will soon be published in the Federal Register.

At the request of the State agency, the Department reviewed the certification for workers of the subject firm. The State reports that it was the company's intent to include leased workers producing coated groundwood paper and freesheet paper and market pulp at the Rumford mill. New information provided to the Department by the State and a company official show that MeadWestvaco leased employees to produce articles at the Rumford, Maine mill. Worker separations were experienced at Bancroft Contracting, Denali Fire Protection, WF Porter, Mechanical Services, Cinbro Contracting, ES Boulos, CP Technologies, and Arbon Equipment as a result of worker separations at MeadWestvaco.

Based on this new information, the Department is amending the certification to include leased workers producing coated paper and pulp at the Rumford mill. The intent of the Department's certification is to include all workers of MeadWestvaco adversely affected by imports.

The amended notice applicable to TA-W-41,327 is hereby issued as follows:

All workers of MeadWestvaco, Rumford, Maine, and leased workers of Bancroft Contracting, Denali Fire Protection, WF Porter, Mechanical Services, Cinbro Contracting, ES Boulos, CP Technologies, and Arbon Equipment engaged in employment related to the production of coated groundwood and freesheet paper and market pulp at MeadWestvaco, Rumford, Maine, who became totally or partially separated from employment on or after March 22, 2001, through June 21, 2004, are eligible to apply for adjustment assistance under Section 223 of the Trade Act of 1974.

Signed at Washington, DC, this 9th day of July, 2002.
Linda G. Poole,
Certifying Officer, Division of Trade Adjustment Assistance.

[FR Doc. 02-18639 Filed 7-23-02; 8:45 am]

BILLING CODE 4510-30-P